NATIONAL SCIENCE FOUNDATION

Advisory Committee for Social, Behavioral, and Economic Sciences; Notice of Meeting

In accordance with Federal Advisory Committee Act (Pub. L. 92-463, as amended), the National Science Foundation announces the following meeting:

Name: Advisory Committee for Social, Behavioral, and Economic Sciences (#1171).

Date/Time: November 8, 2007; 8:30 a.m. to 5 p.m.; November 9, 2007; 8:30 a.m. to 1 p.m.

Place: National Science Foundation, 4121 Wilson Blvd., Room 555, Stafford II Arlington, VA 22230.

Type of Meeting: Open.

Contact Person: Mr. Tyrone Jordan, Office of the Assistant Director, Directorate for Social, Behavioral, and Economic Sciences, National Science Foundation, 4201 Wilson Boulevard, Room 905, Arlington, VA 22230, 703-292-8741.

Summary Minutes: May be obtained from contact person listed above.

Purpose of Meeting: To provide advice and recommendations to the National Science Foundation on major goals and policies pertaining to Social, Behavioral and Economic Sciences Directorate programs and activities.

Agenda: Thursday, November 8, 2007.

• Programmatic Updates—Science of Science and Innovation Policy, Science of Learning Centers.

• Broadening Participation—Presentation of NSF-wide Working Group, SBE Specific Topics.

• Cyber-enabled Discovery and Innovation.

• Emerging Areas in SBE—Complexity and Systems Thinking Cyberinfrastructure, Environment, Neuroscience, Learning.

Friday, November 9, 2007.

• Working Group on Impact of Proposal Award & Management Mechanisms Briefing.

• Discussion with Deputy Director, NSF.

• SBE Infrastructure—Current Status, Environmental Observatories, Data Dream machine.

Dated: October 15, 2007.
Susanne Bolton,
Committee Management Officer.

[FR Doc. E7-20540 Filed 10-17-07; 8:45 am]

BILLING CODE 7555-01-P